DEPARTMENT OF THE TREASURY

Financial Crimes Enforcement Network

Proposed Collection; Comment Request; Bank Secrecy Act Designation of Exempt Person Report Proposed Data Fields

AGENCY: Financial Crimes Enforcement Network (“FinCEN”), Treasury.

ACTION: Notice and request for comments.

SUMMARY: FinCEN is continuing the design of a new Bank Secrecy Act (BSA) database (the Database) and invites comment on the list of proposed data fields within the Database that will support the filing of a Designation of Exempt Person (DOEP) Report by financial institutions required to file such reports under the BSA. This notice does not propose any new regulatory requirements or changes to the requirements related to designation of exempt person reporting, but rather seeks input on technical matters as we transition from a system originally designed for collecting paper forms to a modernized IT environment for electronic reporting. The list of proposed data fields for the “Designation of Exempt Person (DOEP)” appears at the end of this notice. The proposed data fields reflect the filing requirement for all filers of DOEPs under the BSA. The DOEP will be an e-filed dynamic and interactive report used by all BSA filing institutions to report exemptions to the Department of the Treasury. This request for comments covers 31 CFR 103.22(d). This request for comments is being made pursuant to the Paperwork Reduction Act of 1995, Public Law 104-13, 44 U.S.C. 3506(c)(2)(A).

DATES: Written comments are welcome and must be received on or before March 28, 2011.

ADDRESSES: Written comments should be submitted to: Regulatory Policy and Programs Division, Financial Crimes Enforcement Network, Department of the Treasury, P.O. Box 39, Vienna, Virginia 22183, Attention: PRA Comments—BSA-DOEP Database. DOEP comments also may be submitted by electronic mail to the following Internet address: regcomments@fincen.treas.gov, again with a caption, in the body of the text, “Attention: BSA-DOEP Database.”

Inspection of comments. Comments may be inspected, between 10 a.m. and 4 p.m., in the FinCEN reading room in Vienna, VA. Persons wishing to inspect the comments submitted must request an appointment with the Disclosure Officer by telephoning (703) 905-5034 (Not a toll free call).

FOR FURTHER INFORMATION CONTACT: The FinCEN Regulatory Helpline at 800-949-2732, select option 7.

SUPPLEMENTARY INFORMATION: Title: BSA Designation of Exempt Persons Report by Depository Financial Institutions, (See 31 CFR 103.22(d).

OMB Number: 1506-0012.

Form Number: FinCEN Form 110.

Abstract: The statute generally referred to as the “Bank Secrecy Act,” Titles I and II of Public Law 91-508, as amended, codified at 12 U.S.C. 1829b, 12 U.S.C. 1951-1959, and 31 U.S.C. 5311-5332, authorizes the Secretary of the Treasury, inter alia, to require financial institutions to keep records and file reports that are determined to have a high degree of usefulness in criminal, tax, and regulatory matters, or in the conduct of intelligence or counter-intelligence activities to protect against international terrorism, and to implement counter-money laundering programs and compliance procedures.¹ Regulations implementing Title II of the Bank Secrecy Act appear at 31 CFR Part 103. The authority of the Secretary to administer the Bank Secrecy Act has been delegated to the Director of FinCEN.

¹ Language expanding the scope of the Bank Secrecy Act to intelligence or counter-intelligence activities to protect against international terrorism was added by Section 358 of the Uniting and Strengthening America by Providing Appropriate Tools Required to Intercept and Obstruct Terrorism Act of 2001 (the “USA PATRIOT Act”), Public Law 107-56.

The Secretary of the Treasury was granted authority in 1992, with the enactment of 31 U.S.C. 5313, to permit financial institutions to exempt certain persons from the requirement to file currency transaction reports.

The information collected on the “report” is required to be provided pursuant to 31 U.S.C. 5313, as implemented by FinCEN regulations found at 31 CFR 103.22(d). The information collected under this requirement is made available to appropriate agencies and organizations as disclosed in FinCEN's Privacy Act System of Records Notice relating to BSA Reports.²

² Treasury Department bureaus such as FinCEN renew their System of Records Notices every three years unless there is cause to amend them more frequently. FinCEN's System of Records Notice for the BSA Report System was most recently published at 73 FR 42405, 42410 (July 21, 2008).

Current Action: FinCEN is in the process of designing the Database to accept modernized electronic BSA reporting. The Database will accept XML based dynamic, state-of-the-Art, reports. Batch and computer-to-computer filing processes will remain unchanged although the file format will change to match the Database. Discrete filings will be based on Adobe LiveCycle Designer ES dynamic forms. All filings (discrete, batch, and computed-to-computer) will be accessed through the BSA E-Filing system ³ using current registration and log in procedures. During log-in to the discrete filing option, filers will be prompted through a series of questions ⁴ (See BSA-DOEP Comprehensive Summary of Proposed Data Fields, Part I and Part III, at the end of this notice) thereby providing the discrete filer with a dynamic report tailored for the filer's specific institution. Batch and computer-to-computer filers will file reports based on an electronic file specification that will be finalized after reviewing public comments received in response to this notice.

³ BSA E-Filing is a free service provided by FinCEN. More information on the filing methods may be accessed at http://bsaefiling.fincen.treas.gov/main.html.

⁴ A series of predetermined questions will be used to establish the type of institution and filing in much the same manner as used in widely accepted income tax filing software.

Dynamic forms are documents with a hierarchical structure that can be converted into XML. This structure can include structure from XML Schema and example XML files. Dynamic forms can be saved as PDF files or XDP files. XDP files are used by the Adobe LiveCycle Form Server to render files to PDF or HTML as needed. The report for the Database will be designed to be both dynamic (changing layout in response to data propagated from other sources), and interactive (capable of accepting user input). Currently, e-filed discrete forms are based on Designer 8.2.1. The dynamic features of these PDF forms can be manipulated by the Adobe Form Server during the rendering process, or by the Adobe Acrobat/Acrobat Reader ⁵ client during viewing. Dynamic forms allow JavaScript to be embedded thereby enabling programmatic changes to the form layout as well as communication with various data sources (SOAP, OLEDB). Besides JavaScript, Adobe dynamic forms includes a proprietary scripting language called FormCalc, designed to be a simple language for users familiar with spreadsheet calculations.

⁵ Adobe Acrobat Reader is free and can be download from the Adobe Web site http://www.adobe.com/reader.

The filing of the dynamic report will begin with the filer identifying the type of filing ⁶ followed by answering several questions about the filer's institution, the institution's RSSD/EIN, and address.⁷ Responses to these questions will enable or “auto populate” certain data elements of the report with information obtained from third party data sources, completing most of the filing institution's identifying information. The institution will then complete specific information on the exempt person.

⁶ See item 1 of the BSA-DOEP Comprehensive Summary of Proposed Data Fields at the end of this notice.

⁷ See Part III of the BSA-DOEP Comprehensive Summary of Proposed Data Fields at the end of this notice.

General Review of the BSA-DOEP Comprehensive Summary of Proposed Data Fields ⁸

⁸ The complete list of proposed data fields appears at the end of this notice.

Note: The following general comments apply to all filings: Discrete, batch, and computer-to-computer. Critical fields are marked with an asterisk (*) and must be completed.

• All filing institutions will complete Part I “Filing Information” for each report.

• All filing institutions will complete Part II, “Exempt Person Information” for each exemption.

• All filing institutions must complete a Part III. Note that Part III items cover the filer and may include, if appropriate, any affiliated institutions. Filers are only required to complete those items that pertain to the report being made that apply to their institution.

• A Part IV “Signature” is required for all reports.

Type of Review: Initial review of the proposed data elements of the Database in support of the electronic filing of a dynamic BSA-DOEP.

Affected public: Business or other for-profit and not-for-profit financial institutions.

Frequency: As required.

Estimated Reporting Burden: Average of 60 minutes per report and 15 minutes recordkeeping per filing. (The reporting burden of the regulations 31 CFR 103.22(d) is reflected in the burden for the form.).

Estimated Recordkeeping and Reporting Burden for 31 CFR 103.22(d): 75 minutes.

Estimated Number of Respondents = 27,262.

Estimated Total Annual Responses = 31,000.⁹

⁹ Numbers are based on actual 2009 filings as reported to the IRS Enterprise Computing Center-Detroit (EEC-D) as of 12/31 2009.

Estimated Total Annual Reporting and Recordkeeping Burden: 38,750 hours.

An agency may not conduct or sponsor, and a person is not required to respond to, a collection of information unless the collection of information displays a valid OMB control number. Records required to be retained under the Bank Secrecy Act must be retained for five years.

Request for Comments

Comments submitted in response to this notice will be summarized and/or included in the request for OMB approval. All comments will become a matter of public record. Comments are invited on: (a) Whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of automated collection techniques or other forms of information technology; and (e) estimates of capital or start-up costs and costs of operation, maintenance and purchase of services to provide information.

Dated: January 18, 2011.
James H. Freis, Jr.,
Director, Financial Crimes Enforcement Network.

DOEP—Comprehensive Summary of Proposed Data Fields—11-05-10

Part I Filing Information

* 1. Indicate the type of filing by checking a, b, c (check only one):

a. Initial designation

b. Exemption amended

c. Exemption revoked

d. Prior report DCN (electronic view only)

* 2. Effective date of the exemption

Part II Exempt Person Information

* 3. Individual's last name or entity's Legal name of the exempt person

a. (check) if entity

4. First name

5. Middle initial (middle name for electronic filers)

Suffix (electronic view only)

6. Alternate name, e.g. AKA—individual or Doing business as (DBA)—entity

7. Occupation or type of business

a. NAICS Code

* 8. Address

* 9. City

* 10. State

State should be derived through third party data as enhanced data if not provided and ZIP/Postal Code is provided. (Country must be United States for DEP)

* 11. ZIP Code

ZIP + 4 should be derived through third party data as enhanced data if not provided or verified through third party data if provided.

New Data Elements for GEO Coding—Derived through third party data as enhanced data will be identified for the financial institution and any branches provided.

New Data Element of County—Derived through third party data as enhanced data.

Derive data element of Country = USA.

New Data Element of HIFCA code—Derived through third party data as enhanced data will be identified for the financial institution and any branches provided.

New Data Element of HIDTA code—Derived through third party data as enhanced data will be identified for the financial institution and any branches provided.

* 12. TIN (enter number in space provided and check appropriate type below)

* 13. TIN type

a. SSN

b. EIN

14. E-mail address (if available)

15. Phone number (if available)

15a. Extension (if any)

16. Type of exempt person, check box a, b, c, or d (check only one)

a. Listed company

b. Listed company subsidiary

c. Eligible non-listed business

d. Payroll customer

Part III Filer Information

* 17. Name of bank

* 18. EIN

19. RSSD

* 20. Address

* 21. City

* 22. State

State should be derived through third party data as enhanced data if not provided and Country is U.S., Mexico or Canada and ZIP/Postal Code is provided.

* 23. ZIP Code

ZIP + 4 should be derived through third party data as enhanced data if not provided or verified through third party data if provided.

New Data Elements for GEO Coding—Derived through third party data as enhanced data will be identified for the financial institution and any branches provided.

New Data Element of County—Derived through third party data as enhanced data.

Derive data element of Country = USA.

New Data Element of HIFCA code—Derived through third party data as enhanced data will be identified for the financial institution and any branches provided.

New Data Element of HIDTA code—Derived through third party data as enhanced data will be identified for the financial institution and any branches provided.

24. Designated office e-mail address

* 25. Indicate the bank's primary federal regulator by checking a, b, c, d, e, or f (check only one)

a. OCC

b. FDIC

c. FRB

d. OTS

e. NCUA

f. FinCEN (including where IRS or another FinCEN delegate examines for compliance)

26. (Check) If this designation is also being made for one or more affiliated banks

Part IV Signature

27. Print name

28. Title

29. Signature

30. Phone number—(include area code)

30a. Extension

31. Date of signature

[FR Doc. 2011-1586 Filed 1-25-11; 8:45 am]

BILLING CODE 4810-02-P